DEPARTMENT OF ENERGY

Federal Energy Regulatory Commission

Combined Notice of Filings #2

June 15, 2005.

Take notice that the Commission received the following electric rate filings

Docket Numbers: ER02-1081-003.

Applicants: Indeck-Oswego Limited Partnership.

Description: Indeck-Oswego Limited Partnership submits First Substitute Sheet No. 1B, to its FERC Electric Tariff, Original Volume No. 1 to be effective June 30, 2005.

Filed Date: 06/08/2005.

Accession Number: 20050614-0200.

Comment Date: 5 p.m. Eastern Time on Friday, June 24, 2005.

Docket Numbers: ER05-1093-000.

Applicants: Hermiston Power Partnership.

Description: Hermiston Power Partnership submits its Rate Schedule 2 for Reactive Power Supply and Voltage Control from Generation Sources Service in order to receive compensation for the reactive power service it provides Bonneville Power Administration from its generating plant near the City of Hermiston.

Filed Date: 06/10/2005.

Accession Number: 20050614-0103.

Comment Date: 5 p.m. Eastern Time on Friday, July 01, 2005.

Docket Numbers: ER05-1101-000.

Applicants: NorthWestern Energy.

Description: NorthWestern Corporation dba NorthWestern Energy submits First Revised Sheet 161-163 and 171-314 to its Open Access Transmission Tariff, FERC Electric Tariff, Fifth Revised Volume 5 in compliance with FERC Order No. 2003-B issued December 20, 2004.

Filed Date: 06/10/2005.

Accession Number: 20050614-0100.

Comment Date: 5 p.m. Eastern Time on Friday, July 01, 2005.

Docket Numbers: ER05-1102-000.

Applicants: Goldendale Energy Center, LLC.

Description: Goldendale Energy Center, LLC submits its FERC Rate Schedule 2 for Reactive Supply and Voltage Control from Generation Sources Service in order to begin receiving compensation for the reactive power service that it provides to Bonneville Power Administration from its Goldendale generating facility.

Filed Date: 06/10/2005.

Accession Number: 20050614-0101.

Comment Date: 5 p.m. Eastern Time on Friday, July 01, 2005.

Docket Numbers: ER05-1103-000.

Applicants: PJM Interconnection L.L.C.

Description: PJM Interconnection, LLC submits an unexecuted construction service agreement with Neptune Regional Transmission System, LLC, and Public Service Electric and Gas Company.

Filed Date: 06/10/2005.

Accession Number: 20050614-0092.

Comment Date: 5 p.m. Eastern Time on Friday, July 01, 2005.

Docket Numbers: ER05-1104-000.

Applicants: Central Vermont Public Service Corporation.

Description: Central Vermont Public Service Corporation submits a short-form market-based rate tariff, effective 6/10/05 and a request for a waiver of FERC's notice of filing requirements.

Filed Date: 06/09/2005.

Accession Number: 20050614-0192.

Comment Date: 5 p.m. Eastern Time on Thursday, June 30, 2005.

Docket Numbers: ER05-1105-000.

Applicants: LP and T Energy, LLC.

Description: LP and T Energy, LLC submits an application for acceptance of initial market-based rate tariff, waivers & blanket authority.

Filed Date: 06/10/2005.

Accession Number: 20050614-0193.

Comment Date: 5 p.m. Eastern Time on Friday, July 01, 2005.

Docket Numbers: ER05-1106-000.

Applicants: Arizona Public Service Company.

Description: Arizona Public Service Company submits construction agreements with PacifiCorp and one between Arizona Public Service Company and Western Area Power Administration.

Filed Date: 06/10/2005.

Accession Number: 20050614-0194.

Comment Date: 5 p.m. Eastern Time on Friday, July 01, 2005.

Docket Numbers: ER05-1107-000.

Applicants: California Independent System Operator Corporation.

Description: California Independent System Operator Corporation submits an informational filing pursuant to Article IX, section B of the Stipulation and Agreement approved by the Commission on 5/28/1999.

Filed Date: 06/10/2005.

Accession Number: 20050614-0209.

Comment Date: 5 p.m. Eastern Time on Friday, July 01, 2005.

Docket Numbers: ER05-661-002.

Applicants: Somerset Windpower LLC.

Description: Somerset Windpower, LLC submits supplement to the 2/28/05 request for authorization to amend its market-based rate tariff under ER05-661.

Filed Date: 06/10/2005.

Accession Number: 20050614-0198.

Comment Date: 5 p.m. Eastern Time on Friday, June 24, 2005.

Docket Numbers: ER05-742-001.

Applicants: Cambridge Electric Light Company and Commonwealth Electric Company.

Description: Cambridge Electric Light Company and Commonwealth Electric Company submits description of FERC's Accounts used in Revised Tariff in compliance with FERC's 5/25/05 Order. 111 FERC ¶ 61,246 (2005).

Filed Date: 06/10/2005.

Accession Number: 20050614-0191.

Comment Date: 5 p.m. Eastern Time on Friday, July 01, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Linda Mitry,
Deputy Secretary.

[FR Doc. E5-3204 Filed 6-20-05; 8:45 am]

BILLING CODE 6717-01-P